DEPARTMENT OF COMMERCE

National Oceanic and Atmospheric Administration

Agency Information Collection Activities; Submission to the Office of Management and Budget (OMB) for Review and Approval; Comment Request; Economic Surveys of Specific U.S. Commercial Fisheries

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 29, 2021.

ADDRESSES: Interested persons are invited to submit written comments to Adrienne Thomas, NOAA PRA Officer, at Adrienne.thomas@noaa.gov. Please reference OMB Control Number 0648-0773 in the subject line of your comments. Do not submit Confidential Business Information or otherwise sensitive or protected information.

FOR FURTHER INFORMATION CONTACT: Requests for additional information or specific questions related to collection activities should be directed to Dr. Joe Terry, Office of Science and Technology, 1315 East-West Hwy., Bldg. SSMC3, Silver Spring, MD 20910-3282, (858) 454 -2547, joe.terry@noaa.gov.

SUPPLEMENTARY INFORMATION:

I. Abstract

This request is for a revision and extension of a currently approved collection.

The Office of Science and Technology is sponsoring the collection. Economic surveys will be conducted in selected commercial fisheries for the East Coast, Gulf of Mexico, Caribbean, West Coast, Hawaii, and the U.S. Pacific Islands territories.

The requested information will include different components of operating costs/expenditures, earnings, employment, ownership, vessel characteristics, effort/gear descriptors, employment, and demographic information for the various types of fishing vessels operating in the 16 U.S. commercial fisheries or groups of fisheries listed below.

1. West Coast Limited Entry Groundfish Fixed Gear Fisheries

2. West Coast Open Access Groundfish, Non-tribal Salmon, Crab, and Shrimp Fisheries

3. American Samoa Longline Fishery

4. Hawaii Pelagic Longline Fishery

5. Hawaii Small Boat Fishery

6. American Samoa Small Boat Fishery

7. American Samoa, Guam, and The Commonwealth of The Northern Mariana Islands Small Boat-Based Fisheries

8. Mariana Archipelago Small Boat Fleet

9. USVI F Small-Scale Commercial Fisheries

10. Puerto Rico Small-Scale Commercial Fisheries

11. Gulf of Mexico Inshore Shrimp Fishery

12. U.S. South Atlantic Region Golden Crab Fishery

13. West Coast Coastal Pelagic Fishery

14. West Coast Swordfish Fishery

15. West Coast North Pacific Albacore Fishery

16. Northeast and Mid-Atlantic Fisheries

A variety of laws, Executive Orders (EOs), and NOAA Fisheries strategies and policies include requirements for economic data and the analyses they support. When met adequately, those requirements allow better-informed conservation and management decisions on the use of living marine resources and marine habitat in federally managed fisheries. Obtaining these data improves the ability of NOAA Fisheries and the Regional Fishery Management Councils (Councils) to monitor, explain and predict changes in the economic performance and impacts of federally managed commercial fisheries. Measures of economic performance include costs, earnings, and profitability (net revenue); productivity and economic efficiency; capacity; economic stability; the level and distribution of net economic benefits to society; and market power. The economic impacts include sector, community or region-specific, and national employment, sales, value-added, and income impacts. Economic data are required to support more than a cursory effort to comply with or support the following laws, EOs, and NOAA Fisheries strategies and policies:

1. The Magnuson-Stevens Fishery Conservation and Management Act (MSA)

2. The Marine Mammal Protection Act (MMPA)

3. The Endangered Species Act (ESA)

4. The National Environmental Policy Act (NEPA)

5. The Regulatory Flexibility Act (RFA)

6. E.O. 12866 (Regulatory Planning and Review)

7. E.O. 13771 (Reducing Regulation and Controlling Regulatory Costs)

8. E.O. 12898 (Federal Actions to Address Environmental Justice in Minority Populations and Low-Income Populations)

9. E.O. 13840 (Ocean Policy to Advance the Economic, Security, and Environmental Interests of the United States).

10. The NOAA Fisheries Guidelines for Economic Reviews of Regulatory Actions

11. The NOAA Fisheries Strategic Plan 2019-2022 (Strategic Plan)

12. The NOAA Fisheries Ecosystem-Based Fishery Management (EBFM) Road Map

13. The NOAA Fisheries National Bycatch Reduction Strategy

14. NOAA's Catch Share Policy

Data collections will focus each year on a different set of the 16 commercial fisheries or groups of fisheries. This cycle of data collection will facilitate economic data being available and updated for all those commercial fisheries.

There will be an effort to coordinate the data collections in order to reduce the additional burden for those who participate in multiple fisheries. To further reduce the burden, the requested information for a specific fishery will be limited to that which is not available from other sources. Participation in these data collections will be voluntary.

The proposed revisions to the information collection will: (a) Add an information collection for Northeast and Mid-Atlantic fisheries; (b) increase the burden hours to account for that addition information collection: (c) make minor changes to the survey forms that primarily provide flexibility with respect to when NMFS will conduct each of the 16 information collections; and (d) extend it for three years. Though the information collection was recently renewed, an extension is requested at this time as no additional changes to the collection are anticipated before the current expiration date.

II. Method of Collection

The information will be collected by mail, internet, phone, and in-person interviews. In general, respondents will receive a mailed copy of the survey instrument in advance of a phone or in-person interview. Where feasible, survey respondents will have the option to respond to an on-line survey. If phone and in-person interviews are not feasible or not desired by the potential respondents, the information will be collected by mail or internet.

III. Data

OMB Control Number: 0648-0773.

Form Number(s): None.

Type of Review: Regular submission (extension and revision of a currently approved collection).

Affected Public: Individuals or households and business or other for-profit organizations.

Estimated Number of Respondents: 1,655.

Estimated Time per Response: NWFSC: West Coast Limited Entry Groundfish Fixed Gear Fisheries Economic Data Collection: 3 hours.

NWFSC: West Coast Open Access Groundfish, Non-tribal Salmon, Crab, and Shrimp Fisheries Economic Data Collection: 3 hours.

PIFSC: American Samoa Longline Fishery Economic Data Collection: 1 hour.

PIFSC: Hawaii Pelagic Longline Fishery Economic Data Collection: 1 hour.

PIFSC: Hawaii Small Boat Fishery Economic Data Collection: 45 minutes.

PIFSC: American Samoa Small Boat Fishery Economic Data Collection: 45 minutes.

PIFSC: American Samoa, Guam, and The Commonwealth of The Northern Mariana Islands Small Boat-Based Fisheries Economic Data Collection (an add-on to a creel survey): 10 minutes.

PIFSC: Mariana Archipelago Small Boat Fleet Economic Data Collection: 45 minutes.

SEFSC: USVI F Small-Scale Commercial Fisheries Economic Data Collection: 15 minutes.

SEFSC: Puerto Rico Small-Scale Commercial Fisheries Economic Data Collection: 1 hour.

SEFSC: Gulf of Mexico Inshore Shrimp Fishery Economic Data Collection: 28 minutes.

SEFSC: U.S. South Atlantic Region Golden Crab Fishery Economic Data Collection: 30 minutes.

SWFSC: West Coast Coastal Pelagic Fishery Economic Data Collection: 3 hours.

SWFSC: West Coast Swordfish Fishery Economic Data Collection: 30 minutes.

SWFSC: West Coast North Pacific Albacore Fishery Economic Data Collection: 1 hour.

NEFSC: Northeast Commercial Fishing Business Economic Data Collection: 1 hour.

Estimated Total Annual Burden Hours: 1,756.

Estimated Total Annual Cost to Public: 0.

Respondent's Obligation: Voluntary.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-20989 Filed 9-27-21; 8:45 am]

BILLING CODE 3510-22-P